DEPARTMENT OF AGRICULTURE

Agricultural Marketing Service

7 CFR Part 1205

[Docket Number CN-04-001]

Cotton Board Rules and Regulations: Adjusting Supplemental Assessment on Imports, (2004 Amendments); Withdrawal of a Proposed Rule

AGENCY: Agricultural Marketing Service, USDA.

ACTION: Withdrawal of proposed rule.

SUMMARY: This action withdraws a proposed rule published in the Federal Register on January 12, 2005, (70 FR 2034), to amend the Cotton Board Rules and Regulations by adjusting the total rate of assessment per kilogram for imported cotton for use by the Cotton Research and Promotion Program. Based on a stakeholder comment, the Agricultural Marketing Service believes that the proposed rule may not achieve its intended objectives of effectiveness and efficiency.

DATES: The proposed rule is withdrawn as of November 20, 2006.

FOR FURTHER INFORMATION CONTACT: Shethir Riva, Chief, Research and Promotion Program, Cotton Program, AMS, USDA, 1400 Independence Ave., SW., Stop 0224, Washington, DC 20250-0224, telephone (202) 720-2259, facsimile (202) 690-1718, or e-mail at shethir.riva@usda.gov.

SUPPLEMENTARY INFORMATION: The Agricultural Marketing Service (AMS) proposed to amend the Cotton Board Rules and Regulations by adjusting the total rate of assessment per kilogram for imported cotton collected for use by the Cotton Research and Promotion Program. The proposed rule would have reduced the total rate of assessment per kilogram for imported cotton products collected for use by the Cotton Research and Promotion Program.

The proposed rule was published in the Federal Register on January 12, 2005, at 70 FR 2034. Comments were to be received on or before March 14, 2005. In response to the proposed rule, AMS received one comment from the U.S. Association of Importers of Textiles and Apparel (USA-ITA). USA-ITA made numerous assertions, some relevant and some outside the scope of the proposed rule. Among them, the commenter advised AMS to reconsider the proposed formulation and do further work necessary to develop an assessment formula that would more accurately identify the amount of U.S. cotton contained in imported cotton products. AMS believes that the commenter's request to do further work has merit, and, therefore, AMS is withdrawing the proposed rule to continue to evaluate the importer assessment issue and garner additional stakeholders' input and economic data. Accordingly, the proposed rule at 70 FR 2034 in the January 12, 2005, issue in the Federal Register is hereby withdrawn.

Authority: 7 U.S.C. 2101-2118 and 7 U.S.C. 7401.

Dated: November 15, 2006.
Lloyd C. Day,
Administrator, Agricultural Marketing Service.

[FR Doc. E6-19559 Filed 11-17-06; 8:45 am]

BILLING CODE 3410-02-P